DEPARTMENT OF HEALTH AND HUMAN SERVICES

Administration for Children and Families

Proposed Information Collection Activity; Comment Request

Proposed Projects

Title: Emerging Practices in Child Abuse and Neglect Prevention.

OMB No. New collection.

Description: With increasing understanding and recognition of the individual and family risk factors that increase the likelihood of child maltreatment, particularly since the 1990s, the role and importance of prevention has been vigorously promoted. As a consequence, the development, funding, and implementation of programs and initiatives with a specific focus on prevention, have proliferated around the country. However, the precise nature of these efforts—and their effectiveness—is not yet well understood, and information has not been systematically documented. By identifying and showcasing effective and emerging practices, this project will disseminate the best available information on effective and emerging child abuse and neglect prevention practices to researchers, advocates, practitioners, and policymakers in the prevention community.

Respondents: The universe of potential respondents consists of the child abuse and neglect professional community in its entirety, which includes practitioners, service providers, policy makers in state and local agencies, researchers, advocates, and other affiliated parties.

Annual Burden Estimates

Instrument | Number of respondents | Number of responses per respondent | Average burden hours per response | Total burden hours
Track I: Effective practices | 10—30 | 1 | 6 | 60—180
Track II: Promising practices | 150—200 | 1 | 4 | 600—800
Estimated total annual burden hours |  |  |  | 660-980

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 7, 2001.
Bob Sargis,
Reports Clearance Officer.

[FR Doc. 01-28554 Filed 11-14-01; 8:45 am]

BILLING CODE 4184-01-M